DEPARTMENT OF HOUSING AND URBAN DEVELOPMENT

[Docket No. FR FR-5415-C-25A]

Notice of Availability: Notice of Funding Availability (NOFA) for HUD's Fiscal Year (FY) NOFA for the Choice Neighborhoods Initiative—Round 1 NOFA Grant Program; Second Technical Correction and Extension of Deadline Date

AGENCY: Office of the Chief of the Human Capital Officer, HUD.

ACTION: Notice.

SUMMARY: On October 22, 2010, HUD posted a technical correction and extended the application deadline date for the Notice of Funding Availability (NOFA) for HUD's FY2010 Choice Neighborhoods Initiative—Round 1. In the October 22, 2010, HUD extended the deadline for applications in order to makes changes to the Mapping Tool used to determine neighborhood eligibility and stated that a subsequent notice would be posted once the Mapping Tool had been revamped and a new deadline date would be established. Today's notice announces that HUD has posted a notice on Grants.gov that describes changes to the NOFA and sets December 9, 2010, as the new deadline date.

The technical correction which establishes the new deadline date can be found using the Department of Housing and Urban Development agency link on the Grants.gov/Find Web site at http://www.grants.gov/search/agency.do. A link to Grants.gov is also available on the HUD Web site at http://www.hud.gov/offices/adm/grants/fundsavail.cfm. The Catalogue of Federal Domestic Assistance (CFDA) number for the Choice Neighborhood Initiative Program is 14.889. Applications must be submitted electronically through Grants.gov.

FOR FURTHER INFORMATION CONTACT: Questions regarding specific program requirements should be directed to the agency contact identified in the program NOFA. Questions regarding the 2010 General Section should be directed to the Office of Departmental Grants Management and Oversight at 202-708-0667 (this is not a toll-free number) or the NOFA Information Center at 1-800-HUD-8929 (toll-free). Persons with hearing or speech impairments may access these numbers via TTY by calling the Federal Information Relay Service at 1-800-877-8339.

Dated: November 9, 2010.
Barbara S. Dorf,
Director, Office of Departmental Grants Management and Oversight, Office of the Chief of the Human Capital Officer.

[FR Doc. 2010-28857 Filed 11-15-10; 8:45 am]

BILLING CODE 4210-67-P